DEPARTMENT OF ENERGY

Federal Energy Regulatory Commission

18 CFR Part 342

[Docket No. RM26-6-000]

Five-Year Review of the Oil Pipeline Index

AGENCY: Federal Energy Regulatory Commission, Department of Energy.

ACTION: Notice of proposed rulemaking.

SUMMARY: The Federal Energy Regulatory Commission (Commission) invites comments on its proposed index level used to determine annual changes to oil pipeline rate ceilings. The Commission proposes to use the Producer Price Index for Finished Goods (PPI-FG)−1.42% as the index level for the five-year period commencing July 1, 2026. The Commission invites interested persons to submit comments regarding this proposal and any alternative methodologies for calculating the index.

DATES: Initial Comments are due December 24, 2025, and Reply Comments are due January 14, 2026.

ADDRESSES: Comments, identified by docket number, may be filed in the following ways. Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

The Comment Procedures Section of this document contains more detailed filing procedures.

FOR FURTHER INFORMATION CONTACT:

Monil Patel (Technical Information), Office of Energy Market Regulation, Federal Energy Regulatory Commission, 888 First Street NE, Washington, DC 20426, (202) 502-8296. Monil.Patel@ferc.gov.

Evan Steiner (Legal Information), Office of the General Counsel, Federal Energy Regulatory Commission, 888 First Street NE, Washington, DC 20426, (202) 502-8792. Evan.Steiner@ferc.gov.

SUPPLEMENTARY INFORMATION:

1. The Commission annually applies an index to existing oil pipeline transportation rate ceilings to establish new rate ceiling levels.¹ The Commission reexamines the index level every five years.² In this notice of proposed rulemaking (NOPR), the Commission invites comments on its proposal to use the Producer Price Index for Finished Goods (PPI-FG) ³ minus 1.42% (PPI-FG−1.42%) as the index level for the next five years beginning July 1, 2026.⁴

¹ Indexing allows oil pipelines to change their tariff rates so long as those rates remain at or below certain ceiling levels. 18 CFR 342.3(a).

² The five-year index review process was established in Order No. 561. See Revisions to Oil Pipeline Reguls. Pursuant to the Energy Pol'y Act of 1992, Order No. 561, 58 FR 58753 (Nov. 4, 1993), FERC Stats. & Regs. ¶ 30,985 (1993) (cross-referenced at 65 FERC ¶ 61,109), order on reh'g, Order No. 561-A, 59 FR 40243 (Aug. 8, 1994), FERC Stats. & Regs. ¶ 31,000 (1994) (cross-referenced at 68 FERC ¶ 61,138), aff'd, Ass'n of Oil Pipe Lines v. FERC, 83 F.3d 1424 (D.C. Cir. 1996) (AOPL I).

³ The PPI-FG is determined and issued by the Bureau of Labor Statistics, U.S. Department of Labor.

⁴ See Attach. A, Ex. 1 tab.

2. As discussed below, interested persons are invited to submit comments regarding the Commission's proposal and any alternative methodologies for calculating the index level. The Commission will finalize the index level at the conclusion of this proceeding. In accordance with 5 U.S.C. 553(b)(4), a summary of this rule may be found at www.regulations.gov by searching for “RIN 1902-AG33.”

I. Background

3. The Energy Policy Act of 1992 (EPAct 1992) required the Commission to establish a “simplified and generally applicable” ratemaking methodology that was consistent with the just and reasonable standard of the Interstate Commerce Act.⁵ To implement this mandate, the Commission issued Order No. 561 establishing an indexing methodology that allows oil pipelines to change rates based upon an annual index as opposed to making cost-of-service filings.⁶ The use of an industry-wide index avoids expensive and time-consuming proceedings associated with cost-of-service ratemaking and litigation for individual pipelines while still allowing pipelines to efficiently set rates that are commensurate with industry-wide costs. Furthermore, updating the index every five years to reflect oil pipeline industry costs changes helps ensure that rates are just and reasonable for shippers and pipelines. Each year, pipelines adjust their rate ceilings effective July 1 using an index multiplier that the Commission publishes in May based on recent changes in the PPI-FG (a measure of inflation) and the current index level.⁷

⁵ Public Law 102-486, 1801(a), 106 Stat. 2776, 3010 (Oct. 24, 1992), codified at 42 U.S.C. 7172 note.

⁶ Order No. 561, FERC Stats. & Regs. ¶ 30,985 at 30,947.

⁷ 18 CFR 342.3(d)(1), (2); see also, e.g., Revisions to Oil Pipeline Regulations Pursuant to the Energy Pol'y Act of 1992, 90 FR 21917 (May 22, 2025), 191 FERC ¶ 61,134 (2025) (calculating the index for the July 1, 2025—June 30, 2026, index year using the index level established in the 2020 five-year review).

4. In this proceeding, the Commission is conducting its five-year review of the oil pipeline index level. When the Commission established indexing in Order No. 561, the Commission committed to review the index level every five years to ensure that the index level chosen by the Commission adequately reflects changes to industry costs and to ensure that oil pipeline indexed rates remain just and reasonable.⁸ The Commission explained that its responsibilities under the ICA, to both shippers and pipelines, require monitoring of the relationship between the change in the chosen index level and the actual cost changes experienced by industry.⁹ On appeal of Order No. 561, the United States Court of Appeals for the District of Columbia Circuit (D.C. Circuit) upheld the indexing methodology based in part on the Commission's commitment to undertake regular five-year reviews.¹⁰ Since 2000,¹¹ the Commission has conducted a review of the index level every five years.¹² While continuing to use PPI-FG as the basis of the index level,¹³ the Commission has recalibrated the index level each time so that it continued to reflect the relationship between oil pipeline cost changes and PPI-FG.¹⁴ The generally applicable changes to the oil pipeline index necessarily require notice and comment rulemaking.¹⁵

⁸ See Order No. 561, FERC Stats. & Regs. ¶ 30,985 at 30,941 (“To ensure that the operation of the index meets the Commission's responsibility under the ICA to ensure that rates are just and reasonable, the Commission will undertake an examination of the relationship between the annual change in the [PPI-FG-1%] index and the actual cost changes experienced by the oil pipeline industry every five years, beginning in the year 2000 upon the availability of the final index for calendar year 1999.”); id. at 30,947 (“[T]he Commission will review the appropriateness of the index in relation to industry costs every five years, beginning July 1, 2000.”); id. at 30,951 (“[T]o ensure that the change in [PPI-FG-1%] continues to fulfill this objective in the future, the Commission will conduct a periodic review of this index every five years.”); id. at 30,952 (The Commission “will review the choice of the index every 5 years.”); Order No. 561-A, FERC Stats. & Regs. ¶ 31,000 at 31,093 (“To ensure over time that this nexus between the changes in the index and the cost changes experienced by the typical pipeline will be maintained, the Commission will conduct a review of the PPI-FG index every five years, beginning in the year 2000.”); id. at 31,099 (The Commission's decision on the index level “will be reviewed every five years, beginning with the year 2000.”); id. at 31,105 (“The concern . . . that under the indexing system pipeline rates will increasingly diverge from actual pipeline costs . . . has been addressed by the Commission in its structuring of the index system. . . . [U]nder the final rule, every five years beginning in the year 2000, the Commission will examine the relationship between changes in the index (PPI-1) and actual cost changes experienced by the oil pipeline industry.”); see also 49 U.S.C. app. 1(5), 2, 3(1).

⁹ Order No. 561, FERC Stats. & Regs. ¶ 30,985 at 30,952 (“[T]he Commission believes that its responsibilities under the ICA, to both shippers and pipelines, requires monitoring the relationship between the [PPI-FG-1%] and the actual cost changes experienced by the industry. The Commission will use the Form No. 6 information for this purpose, and will review the choice of the index every 5 years.”).

¹⁰ AOPL I, 83 F.3d at 1437. See also id. at 1430 (acknowledging the Commission's commitment to “monitor the index's ability to track changes in pipeline costs and review the appropriateness of its choice of index, in light of the just and reasonable standard of the ICA, every five years”).

¹¹ See Five-Year Rev. of Oil Pipeline Pricing Index, 93 FERC ¶ 61,266, at 61,846 (2000) (2000 Index Review), aff'd in part & remanded sub nom. Ass'n of Oil Pipe Lines v. FERC, 281 F.3d 239 (D.C. Cir. 2002), order on remand, Five-Year Rev. of Oil Pipeline Pricing Index, 102 FERC ¶ 61,195, at P 3 (2003) (2000 Remand Order) (“The Commission recognized [in Order Nos. 561 and 561-A] that its responsibilities, to both shippers and pipelines, required it to monitor the relationship between the change in the PPI-1 index and the actual cost changes experienced by the industry.”), aff'd sub nom. Flying J Inc. v. FERC, 363 F.3d 495 (D.C. Cir. 2004).

¹² Five-Year Rev. of the Oil Pipeline Index, 86 FR 9448 (Feb. 16, 2021), 173 FERC ¶ 61,245 (2020) (2020 Index Order), order on reh'g, 87 FR 4476 (Jan. 28, 2022), 178 FERC ¶ 61,023 (2022) (2022 Rehearing Order), vacated sub nom. Liquid Energy Pipeline Ass'n v. FERC, 109 F.4th 543, 549 (D.C. Cir. 2024) (LEPA v. FERC); Five-Year Rev. of the Oil Pipeline Index, 80 FR 81744 (Dec. 31, 2015), 153 FERC ¶ 61,312 (2015) (2015 Index Review), aff'd sub nom. Ass'n of Oil Pipe Lines v. FERC, 876 F.3d 336 (D.C. Cir. 2017) (AOPL III); Five-Year Rev. of Oil Pipeline Pricing Index, 75 FR 80300 (Dec. 22, 2010), 133 FERC ¶ 61,228 (2010) (2010 Index Review), order on reh'g, 135 FERC ¶ 61,172 (2011); Five-Year Rev. of Oil Pipeline Pricing Index, 71 FR 15329 (Mar. 28, 2006), 114 FERC ¶ 61,293 (2006) (2005 Index Review); 2000 Index Review, 93 FERC ¶ 61,266; Order No. 561, FERC Stats. & Regs. ¶ 30,985 at 30,948-52; Order No. 561-A, FERC Stats. & Regs. ¶ 31,000 at 31,093-99.

¹³ Although in some prior five-year reviews various commenters proposed alternatives to PPI-FG, the Commission has continued to use PPI-FG.

¹⁴ See, e.g., 2020 Index Order, 173 FERC ¶ 61,245 at P 2; 2015 Index Review, 153 FERC ¶ 61,312 at P 2; 2010 Index Review, 133 FERC ¶ 61,228 at P 1; 2005 Index Review, 114 FERC ¶ 61,293 at P 2; 2000 Remand Order, 102 FERC ¶ 61,195 at P 1.

¹⁵ See LEPA v. FERC, 109 F.4th at 549 (holding that the Commission could not revise the index level without adhering to notice and comment procedures required by the Administrative Procedure Act).

5. In Order No. 561 and each successive five-year index review, the Commission has calculated the index level based upon a methodology originally developed by Dr. Alfred E. Kahn and modified by the Commission in subsequent five-year reviews.¹⁶ The Kahn Methodology uses pipeline data from Form No. 6, page 700 ¹⁷ from the prior five-year period to determine adjustments to be applied to the PPI-FG. The calculation is as follows. Each pipeline's cost change on a per barrel-mile basis over the prior five-year period (e.g., the years 2019-2024 in this proceeding) is calculated. In order to remove statistical outliers and spurious data, the Kahn Methodology trims an equal number of pipelines from the top and bottom of the data set.¹⁸ The Kahn Methodology then calculates three measures of central tendency for the trimmed data sample: the median, the mean, and a weighted mean.¹⁹ The Kahn Methodology calculates a composite by averaging these three measures of central tendency and measures the difference between the composite and the PPI-FG over the prior five-year period. The index level is then set at PPI-FG plus (or minus) this differential.

¹⁶ The Commission's use of the Kahn Methodology has been affirmed by the D.C. Circuit. AOPL I, 83 F.3d 1424; Flying J Inc. v. FERC, 363 F.3d 495.

¹⁷ 2015 Index Review, 153 FERC ¶ 61,312 at P 12 (updating the Commission's calculation of the five-year oil pipeline index to use page 700 data to measure changing barrel-mile costs), aff'd, AOPL III, 876 F.3d at 345-46. Page 700 provides summarized interstate barrel-mile and cost-of-service data consistent with the Commission's cost-of-service methodology. Id. PP 12-13, 16.

¹⁸ For example, the Commission has previously trimmed the data set to the middle 50% (removing the bottom 25% and top 25% of pipelines) and in 2020, for the 2021-2026 five-year index, changed to using the middle 80% (removing the bottom 10% and top 10% of pipelines). 2020 Index Order, 173 FERC ¶ 61,245 at PP 25-32 (using the middle 80%); 2015 Index Review, 153 FERC ¶ 61,312 at PP 42-44 (using the middle 50%); 2010 Index Review, 133 FERC ¶ 61,228 at PP 60-63 (using the middle 50%); Order No. 561-A, FERC Stats. & Regs. ¶ 31,000 at 31,096-97 (adopting Dr. Kahn's proposal to use the middle 50%); see also 2005 Index Review, 114 FERC ¶ 61,293 at P 28 (considering average of the middle 50% and middle 80%); 2000 Remand Order, 102 FERC ¶ 61,295 at P 24 (same).

¹⁹ The weighted mean assigns a different weight to each pipeline's cost change based on the pipeline's total barrel-miles.

II. Commission Proposal

6. We propose PPI-FG minus 1.42% as the index level for the five-year period commencing July 1, 2026. The proposal is based on the Kahn Methodology as applied to Form No. 6, page 700 data from the 2019 through 2024 period. The Commission's calculations are included in workpapers included as Attachment A and available in this docket on the Commission's eLibrary system.²⁰ This proposal is subject to change based on the Commission's review of the record developed in this proceeding.

²⁰ See infra P 37 (discussing the Commission's eLibrary system).

7. We invite interested persons to submit comments regarding the Commission's proposal and any alternative methodologies for calculating the index level for the five-year period commencing July 1, 2026.²¹ Commenters may address all issues relating to the calculation of the index level, including, but not limited to: (i) different data trimming methodologies; (ii) whether, and if so how, the Commission should adjust the data set to address the effects of the change in Commission policy regarding return on equity (ROE); and (iii) whether, and if so how, the Commission's calculation of the index level should incorporate recently resubmitted page 700 data for 2019. As discussed further below, the index level of PPI-FG-1.42% was calculated by trimming the data set to the middle 80%, using unadjusted ROE, and using pipelines' originally filed FERC Form No. 6, page 700 data for 2019. The economic effects of the NOPR proposal and various regulatory alternatives are shown in the Regulatory Impact Analysis.²²

²¹ As discussed below, commenters must file any supporting workpapers in an acceptable spreadsheet format with all links and formulas intact. Infra P 35.

²² The Regulatory Impact Analysis (RIA) supporting this rulemaking can be found as a supporting document at www.regulations.gov.

A. Trimming of the Data Set

8. As part of each five-year index review, the Commission trims the data set that it uses to establish the updated index level to remove outlying data. We propose to set the index level in this proceeding by trimming the data set to the middle 80% of all oil pipelines. While the Commission has used various data trimming approaches in the past,²³ use of the middle 80% is consistent with the Commission's approach in the most recent 2020 index review.²⁴ Although we considered different data trimming approaches for this five-year review, including using the middle 50% of the data set, we preliminarily conclude that the middle 80% is the appropriate data set to use in this five-year review for the reasons discussed below.

²³ 2015 Index Review, 153 FERC ¶ 61,312 at PP 42-44 (using the middle 50%); 2010 Index Review, 133 FERC ¶ 61,228 at PP 60-63 (using the middle 50%); 2005 Index Review, 114 FERC ¶ 61,293 at P 28 (considering average of the middle 50% and middle 80%); 2000 Remand Order, 102 FERC ¶ 61,295 at P 24 (same); Order No. 561-A, FERC Stats. & Regs. ¶ 31,000 at 31,096-97 (adopting Dr. Kahn's proposal to trim the data set to the middle 50%).

²⁴ 2020 Index Order, 173 FERC ¶ 61,245 at PP 25-32 (adopting the middle 80% for the 2021-2026 cycle). In the 2020 review, the Commission subsequently granted rehearing to modify the index to use the middle 50%, but the rehearing order was vacated on procedural grounds by the D.C. Circuit. See 2022 Rehearing Order, 178 FERC ¶ 61,023 at PP 43-58, vacated sub nom. LEPA v. FERC, 109 F.4th at 547-49; see also Revisions to Oil Pipeline Reguls. Pursuant to the Energy Pol'y Act of 1992, 188 FERC ¶ 61,173 (2024) (order reinstating index level based upon the middle 80% following vacatur).

9. First, as the Commission explained in the 2020 index review,²⁵ it is appropriate to consider more data in measuring industry-wide cost changes rather than less. The Kahn Methodology determines the index level by calculating the central tendency of a statistically trimmed data sample. As a general matter, considering a larger data sample should enhance the calculation of the central tendency of industry cost experience.²⁶ Furthermore, the middle 80% of the data set in this record excludes only 40 pipelines out of 196 pipelines in the full data set and only 6% of industry-wide barrel-miles, providing a robust sample of industry cost experience.²⁷ By contrast, using the middle 50% would exclude an additional 58 pipelines (for a total of 98 pipelines excluded) and 12% of industry barrel-miles from the Commission's review of industry-wide cost changes over the 2019-2024 period.²⁸

²⁵ 2020 Index Order, 173 FERC ¶ 61,245 at P 26.

²⁶ Id.

²⁷ Attach. A, Model tab (indicating that trimming to the middle 80% would reduce the sample from 196 pipelines to 156 pipelines).

²⁸ Id. (indicating that trimming to the middle 50% instead of the middle 80% would reduce the sample from 156 pipelines to 98 pipelines).

10. Second, we preliminarily find that “normal” cost changes are best defined using the inclusive data sample embodied in the middle 80%. Prematurely discarding data prior to determining the central tendency could skew the index such that it does not reflect industry-wide trends. By using the inclusive data sample in the middle 80%, the Commission is able to accurately identify the central tendency of industry-wide cost changes that reflects the “normal” cost changes recoverable by the index.²⁹

²⁹ 2020 Index Order, 173 FERC ¶ 61,245 at P 27.

11. Accordingly, we preliminarily conclude that the middle 80% is the appropriate data set to use in the upcoming five-year review cycle. However, we invite commenters to address whether the Commission should continue to trim the data set to the middle 80% or adopt an alternative approach to data trimming. Commenters should explain why their preferred approach is superior and how it would appropriately address outliers and spurious or unrepresentative data that could bias the index calculation in either direction.

B. Treatment of ROE in Data Set

12. In May 2020, the Commission revised its methodology for determining ROE for oil pipelines. Whereas the Commission had previously relied solely on the discounted cash flow (DCF) model for determining ROE, the Commission now averages the results of the DCF and Capital Asset Pricing Model (CAPM) analyses (ROE Policy Change).³⁰

³⁰ The DCF and CAPM models are described in the policy statement. See Inquiry Regarding the Comm'n's Pol'y for Determining Return on Equity, 171 FERC ¶ 61,155, at PP 18, 28, 50 (2020).

13. We calculated the proposed index level without making any adjustment to the data in light of the ROE Policy Change. The Commission has never adjusted ROE in a prior index proceeding. We are concerned that adjusting the data in light of the ROE Policy Change would be a complex and difficult endeavor that would be inconsistent with indexing's purpose as a simplified and streamlined process.³¹

³¹ In the 2020 Index Order, the Commission declined to adjust the ROE data due to the difficulty of determining just and reasonable alternative ROEs for the diverse pipelines in the data set. The Commission found that “addressing such complex cost-of-service issues would improperly complicate and prolong the five-year review process in violation of EPAct 1992's mandate for simplified and streamlined ratemaking.” 2020 Index Order, 173 FERC ¶ 61,245 at PP 49-50.

14. We encourage commenters to address whether, and if so, how, the Commission should address the ROE Policy Change in the index calculation. Commenters proposing any adjustment to the data set should explain why their proposal is consistent with EPAct 1992's dual mandates for just and reasonable rates and simplified and streamlined ratemaking. Among other things, to the extent pipelines changed their reported ROEs as a result of the ROE Policy Change, commenters should address how that data should be considered in light of indexing's relationship to recoverable costs under the Opinion No. 154-B methodology.³²

³² We acknowledge that in the 2020 Index Order the Commission adjusted the data to remove the effects on the index level of a different policy change related to recovery of income tax costs. Id. PP 16-20. The Commission later found participants' challenges to this determination persuasive and modified the index level to use unadjusted data and to incorporate the effects of the policy change into the index. 2022 Rehearing Order, 178 FERC ¶ 61,023 at PP 17-36. However, the D.C. Circuit vacated the rehearing order on procedural grounds. LEPA v. FERC, 109 F.4th at 547-49. The Commission also proposed in a Supplemental NOPR to depart from the 2020 Index Order's holdings on that same income tax issue and to incorporate the policy change into the index. Supplemental Rev. of the Oil Pipeline Index Level, 89 FR 84475 (Oct. 23, 2024), 189 FERC ¶ 61,030, at PP 24-34 (2024). For purposes of considering the ROE Policy Change and how it affects the index in this proceeding, we consider anew any issues related to whether the index should incorporate cost-of-service policy changes. Commenters should not simply rely upon statements and findings in the 2020 Index Order related to this matter.

C. Resubmitted Form No. 6s

15. We also observe that, since April 2025, 61 pipelines have resubmitted FERC Form No. 6 cost data for 2019 to change the calculation of the ROE as well as other modifications.³³ We considered whether to use pipelines' resubmitted FERC Form No. 6 cost data for 2019 or whether to rely on pipelines' originally submitted FERC Form No. 6 cost data. For the reasons discussed below, the index level proposed in this NOPR relies on pipelines' originally submitted FERC Form No. 6 cost data.

³³ See Appendix (listing 61 pipelines that have resubmitted their 2020 Form No. 6 since April 2025 to change their page 700 data for 2019). See also Tallgrass Pony Express Pipeline, LLC, Form No. 6 (filed June 13, 2025) (resubmitting 2019 Form No. 6 to change their page 700 data for 2019). Many of the changes involved changes to ROE and capital structure that led to modifications elsewhere on page 700. However, some pipelines made additional changes to other cost components, such as rate base and operating expenses. See, e.g., Sunoco Pipeline L.P., Form No. 6, page 700 (filed Apr. 29, 2025) (among other modifications, showing an approximately $1 billion change to rate base); Tesoro High Plains Pipeline Company LLC, Form No. 6, page 700 (filed Apr. 17, 2025) (among other modifications, showing an approximately $7 million change to operating costs).

16. First, the resubmissions were filed five years after the cost data was originally due to be submitted and include limited explanations for these changes.³⁴ A similarly significant volume of late filings of Form No. 6 has not arisen in prior five-year review proceedings, and these filings raise potential concerns about use of the late-filed data. For example, the late-filed data from many pipelines filing Form No. 6 updates lack supporting calculations, instead merely stating that “[t]he cost of service results have been updated to reflect the most current interpretation of the FERC methodology outlined in Opinion No. 154-B, 31 FERC 61,377 (1985), as modified and clarified by subsequent rulings.” ³⁵ Additionally, we are concerned that use of updated data could introduce biases in the index calculations because only some pipelines updated their data. Accordingly, we are not including these late submittals in the calculation of the index level proposed in this NOPR.³⁶ We seek comment on whether, and if so how, the Commission's calculation of the index level should incorporate the recently resubmitted page 700 data for 2019.

³⁴ See, e.g., Mid-America Pipeline Company, LLC, Form No. 6, page 700 (filed May 6, 2025) (stating “The cost-of-service results have been updated to reflect the most current interpretation of the FERC methodology outlined in Opinion No. 154-B, 31 FERC 61,377 (1985), as modified and clarified by Opinion No. 586.”); Platte Pipe Line Company, LLC, Form No. 6, page 700 (filed May 2, 2025) (stating “2019 and 2020 data has been restated using a revised return on equity (ROE) calculation consistent with the ROE methodology approved by the Commission in Opinion No. 586.”).

³⁵ See, e.g., Buckeye Pipe Line Transportation LLC June 16, 2025, revisions of 2020 FERC Form 6 report at page 2.

³⁶ For informational purposes, see Attach. A, Ex. 4 tab.

III. Information Collection Statement

17. The information collection requirements contained in this proposed rule are subject to review by the Office of Management and Budget (OMB) under section 3507(d) of the Paperwork Reduction Act of 1995.³⁷ OMB's regulations require approval of certain information collection requirements imposed by agency rules.³⁸

³⁷ 44 U.S.C. 3507(d).

³⁸ 5 CFR 1320.11.

18. This proposed rule affects a currently approved information collection. Changes described in this proposed rule are non-substantive and do not change any filing requirements; rather this proposed rule adjusts an aspect of the calculation that is used in an annual tariff filing that FERC jurisdictional oil pipelines are required to submit to the Commission. This aspect of the calculation is reviewed and updated every five years.

Summary of Information Collection

Title: FERC-550, Oil Pipeline Tariff Filings & Depreciation Studies.

Action: Non-substantive change adjusting an aspect of the calculation that is used in annual oil pipeline tariff filings.

OMB Control Nos.: 1902-0089 (FERC-550).

Respondents: Oil Pipelines.

Frequency of Information Collection: On occasion in compliance with requirements.

Necessity of Information: The reforms in this proposed rule are necessary to ensure that the rates of oil pipelines are just and reasonable.

Internal Review: The Commission has reviewed the reforms and determined that such reforms are necessary. These reforms conform to the Commission's need for efficient information collection, communication, and management within the energy industry. The Commission has specific, objective support for the burden estimates associated with the information collection requirements.

Public Reporting Burden: The burden and cost related to filing an oil pipeline tariff will not change due to this proposed rule. The currently approved hourly burden for submitting a tariff filing is 7 hours ($721 ³⁹).

³⁹ The hourly cost used in this calculation is based on the estimated average annual cost per FERC FTE, including salary + benefits of $103 per hour, or $214,093 per year.

IV. Executive Order 12866 (Regulatory Planning and Review) and Executive Order 13563 (Improving Regulation and Regulatory Review)

19. Executive Order 12866 (Regulatory Planning and Review), as amended by Executive Orders 14215 (Ensuring Accountability for All Agencies) and supplemented by 13563 (Improving Regulation and Regulatory Review), directs agencies to assess the costs and benefits of available regulatory alternatives and, if regulation is necessary, to select regulatory approaches that maximize net benefits. Executive Order 13563 emphasizes the importance of quantifying costs and benefits, reducing costs, harmonizing rules, and promoting flexibility. The Office of Information and Regulatory Affairs (OIRA) has designated this proposed rule a “significant regulatory action” that is economically significant under section 3(f)(1) of Executive Order 12866. Accordingly, OMB has reviewed this proposed rule. The regulatory impact analysis associated with this rulemaking can be found as a supporting document at www.regulations.gov. The following represents a summary of the aforementioned regulatory impact analysis.

20. If adopted in a final rule, the index level proposed in this NOPR would influence rates for interstate oil pipeline transportation service, which would affect the interests of interstate oil pipelines and shippers on interstate oil pipelines.⁴⁰ The RIA considers the potential impacts of the index level proposed in the NOPR relative to two baselines.⁴¹ The first baseline (Baseline 1) assumes that a final rule establishing a new index level for the 2026-2031 time period is not issued and assumes that the index level established for 2021-2025 would remain effective for 2026-2031. The second baseline (Baseline 2) assumes that a final rule establishing an index level for the 2026-2031 time period is not issued, and that there is no effective index level and pipelines are thus precluded from changing their rates pursuant to the Commission's indexing regulations for the 2026-2031 period. Adopting the index level proposed in this NOPR would reduce interstate oil pipeline transportation revenues during the five-year period that the index would be effective as compared to Baseline 1 and would increase oil pipeline revenues during the five-year period that the index would be effective as compared to Baseline 2.⁴²

⁴⁰ Approximately 350 pipelines file tariff rates with the Commission for interstate transportation of crude oil and petroleum products, and approximately 86% of rates are set under the indexing method. For more information about who is affected by the NOPR, see section II.C of the RIA.

⁴¹ See RIA, section II.E.

⁴² For more information about the effects of the NOPR as compared to Baseline 1 and Baseline 2, see RIA, section II.f. See also RIA, apps. A, B.

21. As discussed in the RIA, the issuance of a final rule adopting the proposed index level in the NOPR would not create any measurable costs or benefits outside of these effects experienced by pipelines and shippers. While there are circumstances in which pipeline transportation rates can indirectly affect financial interests outside of pipelines and shippers (for example, lower pipeline transportation rates could affect commodity prices for refineries, prices of petroleum, or pipeline infrastructure investment), these impacts are sufficiently attenuated or otherwise so minimal as to not result in significant costs.⁴³

⁴³ See id. section II.G.

22. The RIA also describes the regulatory alternatives that the Commission considered and the estimated effects of alternative index levels on annual interstate oil pipeline transportation revenues as compared to the baselines. The alternative index levels reflect different combinations of regulatory alternatives, specifically of different approaches to the three issues on which we seek comment in the NOPR.⁴⁴ All of the index levels that result from the various regulatory alternatives considered in the RIA are higher compared to the index level proposed in the NOPR.

⁴⁴ For further details about the regulatory alternatives considered by the Commission and their estimated effects on annual interstate oil pipeline transportation revenues, see RIA, section II.H, apps. A, B, C, D.

V. Executive Order 13132 (Federalism)

23. Executive Order 13132 (Federalism) imposes certain requirements on Federal agencies formulating and implementing policies or regulations that preempt State law or that have federalism implications. The Executive Order requires agencies to examine the constitutional and statutory authority supporting any action that would limit the policymaking discretion of the States and to carefully assess the necessity for such actions.

24. The Commission has examined the NOPR and has determined that it would not have a substantial direct effect on the States, on the relationship between the national government and the States, or on the distribution of power and responsibilities among the various levels of government. Therefore, the Commission has not prepared a federalism assessment.

VI. Executive Order 13211 (Actions Concerning Regulations That Significantly Affect Energy Supply, Distribution, or Use)

25. Executive Order 13211 (Actions Concerning Regulations that Significantly Affect Energy Supply, Distribution, or Use) requires Federal agencies to prepare and submit to OIRA at OMB, a Statement of Energy Effects for any significant energy action. A “significant energy action” is defined as any action that promulgates or is expected to lead to promulgation of a final rule, and that: (1) is a significant regulatory action under Executive Order 12866, or any successor order and is likely to have a significant adverse effect on the supply, distribution, or use of energy; or (2) is designated by the Administrator of OIRA as a significant energy action. For any significant energy action, the agency must give a detailed statement of any adverse effects on energy supply, distribution, or use should the proposal be implemented, and of reasonable alternatives to the action and their expected benefits on energy supply, distribution, and use.

26. At this NOPR stage, the Commission has preliminarily determined that this rule would not have a significant adverse effect on the supply, distribution, or use of energy. Accordingly, the Commission has not prepared a Statement of Energy Effects.

VII. Environmental Analysis

27. The Commission is required to prepare an Environmental Assessment or an Environmental Impact Statement for any action that may have a significant adverse effect on the human environment.⁴⁵ The Commission has categorically excluded certain actions from this requirement as not having a significant effect on the human environment. Included in this exclusion are proposed rules that are clarifying, corrective, or procedural or that do not substantially change the effect of the regulations being amended.⁴⁶ The action proposed herein falls within this categorical exclusion in the Commission's regulations.

⁴⁵ Reguls. Implementing the National Env't Pol'y Act, Order No. 486, 52 FR 47897 (Dec. 17, 1987), FERC Stats. & Regs. ¶ 30,783 (1987) (cross-referenced at 41 FERC ¶ 61,284).

⁴⁶ 18 CFR 380.4(a)(2)(ii).

VIII. Regulatory Flexibility Act

28. The Regulatory Flexibility Act of 1980 (RFA) ⁴⁷ generally requires a description and analysis of proposed rules that will have significant economic impact on a substantial number of small entities. The Small Business Administration's (SBA) Office of Size Standards develops the numerical definition of a small business.⁴⁸ The SBA defines a small oil pipeline company as one with less than 1,500 employees.⁴⁹ Based on this definition, the Commission identified 43 small entities that the proposed rule will affect. As discussed above, the burdens and costs associated with filing oil pipeline tariffs will not change as a result of the proposed rule. The currently approved hourly burden for submitting a tariff filing is 7 hours ($721). We view this as a minimal economic impact for each entity. Accordingly, we certify that the proposed rule will not have a significant economic impact on a substantial number of small entities. Thus, no regulatory flexibility analysis is required.

⁴⁷ 5 U.S.C. 601-612.

⁴⁸ 13 CFR 121.101.

⁴⁹ Id. 121.201, Subsector 486 (Pipeline Transportation).

IX. Comment Procedures

29. The Commission invites interested persons to submit comments on the matters and issues proposed in this notice to be adopted, including any related matters or alternative proposals that commenters may wish to discuss. Initial Comments are due [insert date 30 days after date of publication in the Federal Register], and Reply Comments are due [insert date 51 days after date of publication in the Federal Register]. Comments must refer to Docket No. RM26-6-000, and must include the commenter's name, the organization they represent, if applicable, and their address in their comments. All comments will be placed in the Commission's public files and may be viewed, printed, or downloaded remotely as described in the Document Availability section below. Commenters on this proposal are not required to serve copies of their comments on other commenters.

30. The Commission encourages comments to be filed electronically via the eFiling link on the Commission's website at http://www.ferc.gov. The Commission accepts most standard word processing formats. Documents created electronically using word processing software must be filed in native applications or print-to-PDF format and not in a scanned format. All supporting workpapers must be submitted with links and formulas intact and in a spreadsheet format acceptable under the Commission's eFiling rules. Commenters filing electronically do not need to make a paper filing.

31. Commenters that are not able to file comments electronically may file an original of their comment by USPS mail or by courier-or other delivery services. For submission sent via USPS only, filings should be mailed to: Federal Energy Regulatory Commission, Office of the Secretary, 888 First Street NE, Washington, DC 20426. Submission of filings other than by USPS should be delivered to: Federal Energy Regulatory Commission, 12225 Wilkins Avenue, Rockville, MD 20852.

X. Document Availability

32. In addition to publishing the full text of this document in the Federal Register, the Commission provides all interested persons an opportunity to view and/or print the contents of this document via the internet through the Commission's Home Page (http://www.ferc.gov).

33. From the Commission's Home Page on the internet, this information is available on eLibrary. The full text of this document is available on eLibrary in PDF and Microsoft Word format for viewing, printing, and/or downloading. To access this document in eLibrary, type the docket number excluding the last three digits of this document in the docket number field.

34. User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

By direction of the Commission.
Issued: November 20, 2025.
Carlos D. Clay,
Deputy Secretary.

Appendix—Pipelines That Resubmitted Page 700 Data for 2019 Since April 2025

Pipeline | Filing date
1. MPLX Ozark Pipe Line LLC | April 17, 2025.
2. Tesoro Logistics Northwest Pipeline LLC | April 17, 2025.
3. Marathon Pipe Line LLC | April 17, 2025.
4. Muskegon Pipeline LLC | April 17, 2025.
5. Hardin Street Holdings LLC | April 17, 2025.
6. Andeavor Gathering I LLC | April 17, 2025.
7. Tesoro High Plains Pipeline Company LLC | April 17, 2025.
8. Andeavor Logistics Rio Pipeline LLC | April 17, 2025.
9. Western Refining Conan Gathering, LLC | April 17, 2025.
10. Western Refining Pipeline, LLC | April 17, 2025.
11. Ohio River Pipe Line LLC | April 17, 2025.
12. Dakota Access, LLC | April 28, 2025.
13. White Cliffs Pipeline, L.L.C | April 28, 2025.
14. Inland Corporation | April 28, 2025.
15. Energy Transfer Crude Oil Company, LLC | April 28, 2025.
16. Mid Valley Pipeline Company LLC | April 28, 2025.
17. Permian Express Terminal LLC | April 28, 2025.
18. Permian Express Partners LLC | April 28, 2025.
19. West Texas Gulf Pipe Line Company LLC | April 28, 2025.
20. Bayou Bridge Pipeline LLC | April 28, 2025.
21. Enable Bakken Crude Services, LLC | April 28, 2025.
22. Centurion Pipeline L.P | April 29, 2025.
23. Sunoco Pipeline L.P | April 29, 2025.
24. Centurion SENM Gathering LP | April 29, 2025.
25. Energy Transfer GC NGL Pipelines LP | April 29, 2025.
26. ETP Crude LLC | April 29, 2025.
27. Front Range Pipeline LLC | May 1, 2025.
28. NuStar Permian Transportation and Storage, LLC | May 1, 2025.
29. CCPS Transportation, LLC | May 2, 2025.
30. Enbridge Storage (Patoka) L.L.C | May 2, 2025.
31. Enbridge Energy, Limited Partnership | May 2, 2025.
32. Express Pipeline LLC | May 2, 2025.
33. Platte Pipe Line Company, LLC | May 2, 2025.
34. Seminole Pipeline Company LLC | May 2, 2025.
35. Illinois Extension Pipeline Company L.L.C | May 2, 2025.
36. Gray Oak Pipeline, LLC | May 2, 2025.
37. Enbridge Pipelines (Toledo) Inc | May 2, 2025.
38. North Dakota Pipeline Company LLC | May 2, 2025.
39. Enbridge Pipelines (Southern Lights) LLC | May 2, 2025.
40. Bakken Pipeline Company LP | May 2, 2025.
41. Enbridge Pipelines (FSP) L.L.C | May 2, 2025.
42. Texas Express Pipeline LLC | May 2, 2025.
43. Rio Grande Pipeline Company LLC | May 5, 2025.
44. Seaway Crude Pipeline Company LLC | May 5, 2025.
45. Enterprise TE Products Pipeline Company LLC | May 6, 2025.
46. Enterprise Lou-Tex NGL Pipeline L.P | May 6, 2025.
47. Baton Rouge Pipeline LLC | May 6, 2025.
48. Mid-America Pipeline Company, LLC | May 6, 2025.
49. Dixie Pipeline Company LLC | May 6, 2025.
50. Sorrento Pipeline Company, LLC | May 6, 2025.
51. WILPRISE Pipeline Company, L.L.C | May 6, 2025.
52. Enterprise Interstate Crude LLC | May 6, 2025.
53. Panola Pipeline Company, LLC | May 6, 2025.
54. Tri-States NGL Pipeline, LLC | May 6, 2025.
55. Leveret Pipeline Company LLC | May 6, 2025.
56. Buckeye Pipe Line Company, L.P | June 16, 2025.
57. Buckeye Pipe Line Transportation LLC | June 16, 2025.
58. Buckeye Linden Pipe Line Company LLC | June 16, 2025.
59. Wood River Pipe Lines LLC | June 16, 2025.
60. West Shore Pipe Line Company | June 16, 2025.
61. Norco Pipe Line Company, LLC | June 16, 2025.

[FR Doc. 2025-20762 Filed 11-21-25; 8:45 am]

BILLING CODE 6717-01-P